DEPARTMENT OF COMMERCE

National Oceanic and Atmospheric Administration

50 CFR Part 622

RIN 0648-BD21

Fisheries of the Caribbean, Gulf of Mexico and South Atlantic; Revisions to Headboat Reporting Requirements for Species Managed by the South Atlantic Fishery Management Council

AGENCY: National Marine Fisheries Service (NMFS), National Oceanic and Atmospheric Administration (NOAA), Commerce.

ACTION: Notice of availability; request for comments.

SUMMARY: The South Atlantic Fishery Management Council (South Atlantic Council) approved the Joint South Atlantic/Gulf of Mexico Generic Charter/Headboat Reporting in the South Atlantic Amendment (For-Hire Reporting Amendment) during its March 2013 meeting, and the Gulf of Mexico Fishery Management Council (Gulf Council) approved the amendment at its February 2013 meeting. The Councils submitted the amendment to NMFS for agency review under procedures of the Magnuson-Stevens Fishery Conservation and Management Act (Magnuson-Stevens Act). The For-Hire Reporting Amendment includes Amendment 31 to the Fishery Management Plan (FMP) for the Snapper-Grouper Fishery of the South Atlantic Region; Amendment 6 to the FMP for the Dolphin and Wahoo Fishery of the Atlantic; and Amendment 22 to the FMP for the Coastal Migratory Pelagic Resources in the Atlantic and the Gulf of Mexico. If approved, the For-Hire Reporting Amendment would amend the FMPs to modify data reporting for for-hire vessels in the South Atlantic. Under the preferred alternative, headboat vessels in the South Atlantic would be required to submit electronic fishing records to the NMFS' Southeast Fisheries Science Center (SEFSC) Science and Research Director (SRD) weekly, or at intervals shorter than a week if notified by the SRD.

DATES: Written comments must be received on or before November 18, 2013.

ADDRESSES: You may submit comments, identified by “NOAA-NMFS-2013-0080”, by any one of the following methods:

• Electronic Submissions: Submit all electronic public comments via the Federal e-Rulemaking Portal: http://www.regulations.gov. Go to www.regulations.gov/#!docketDetail;D=NOAA-NMFS-2013-0080, click the “Comment Now!” icon, complete the required fields, and enter or attach your comments. Mail: Submit written comments to Karla Gore, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

Electronic copies of the For-Hire Reporting Amendment may be obtained from the Southeast Regional Office Web site at http://sero.nmfs.noaa.gov/sf/SASnapperGrouperHomepage.htm. The For-Hire Reporting Amendment includes a draft environmental assessment, a Regulatory Flexibility Act analysis, a Regulatory Impact Review, and a Fishery Impact Statement.

FOR FURTHER INFORMATION CONTACT: Karla Gore, telephone: 727-824-5305; email: Karla.Gore@noaa.gov.

SUPPLEMENTARY INFORMATION: The Magnuson-Stevens Act requires each regional fishery management council to submit any fishery management plan or amendment to NMFS for review and approval, partial approval, or disapproval. The Magnuson-Stevens Act also requires that NMFS, upon receiving a plan or amendment, publish an announcement in the Federal Register notifying the public that the plan or amendment is available for review and comment.

Background

At its September 2012 meeting, the South Atlantic Council expressed concern on the inability to receive estimates of headboat catches in a timely manner. Delays in receiving and processing headboat data could contribute to the recreational annual catch limit (ACL) being exceeded. The South Atlantic Council concluded that improving data reporting could reduce the chance that the recreational ACLs are exceeded and accountability measures are triggered.

The preferred alternative in this amendment, which would require headboats in the South Atlantic to report through electronic means on a weekly basis, would improve NMFS' ability to produce in-season harvest estimates for all species in the subject FMPs.

The South Atlantic Council has submitted the For-Hire Reporting Amendment to NMFS for agency review under procedures of the Magnuson-Stevens Act. The South Atlantic Council approved the amendment during its March 2013 meeting. The Gulf Council approved the amendment at its February 2013 meeting. Gulf Council approval was necessary because the South Atlantic and Gulf Councils jointly manage the Coastal Migratory Pelagics species under the Coastal Migratory Pelagics FMP.

Management Measures Contained in This Amendment

This amendment would require electronic reporting for headboat vessels in the South Atlantic snapper-grouper, Atlantic dolphin and wahoo, and South Atlantic coastal migratory pelagic fisheries, increase the reporting frequency for those headboat vessels, and prohibit those headboats from continuing to fish if they are delinquent in submitting their reports.

Mandatory Electronic Reporting for Headboat Vessels

Currently, headboats selected to report by the SRD must maintain a fishing record for each trip, or a portion of such trips, as specified by the SRD, and on forms provided by the SRD. Until January 1, 2013, the SRD provided federally-permitted headboats with paper forms to submit their logbook data. However, as of January 1, 2013, the SRD has requested that federally-permitted headboats in the South Atlantic report electronically. The For-Hire Reporting Amendment would explicitly require that headboat vessels submit fishing records through an electronic reporting system developed by the SEFSC. Electronic reports would be required to be submitted for trips completed, and no fishing reports would be required when no trips are taken. The For-Hire Reporting Amendment allows for paper reporting to be used in catastrophic conditions (when electronic means to report data are not feasible) as deemed by the Regional Administrator.

Increase Reporting Frequency for the Headboat Sector

Currently, headboat reporting forms are due on a monthly basis, and must either be made available to a fisheries statistics reporting agent or be postmarked no later than 7 days after the end of each month and sent to the SRD. The For-Hire Reporting Amendment would modify the frequency to weekly reporting or intervals shorter than a week if notified by the SRD. If no fishing activity occurred during a week, an electronic report so stating must be submitted for that week.

Non-Compliance With Reporting Requirement

Headboats are expected to remain current with reporting to remain in compliance with the conditions of a valid permit (i.e., to be authorized to conduct trips). Headboat owners and operators who are delinquent in submitting their reports would be prohibited from continuing to harvest and possess South Atlantic snapper-grouper, Atlantic dolphin and wahoo, and South Atlantic coastal migratory pelagic fish until they have submitted all required reports. This provision would aid in enforcement efforts to ensure electronic reports are submitted in a timely manner.

A proposed rule that would implement measures outlined in the For-Hire Reporting Amendment has been drafted. In accordance with the Magnuson-Stevens Act, NMFS is evaluating the For-Hire Reporting Amendment to determine whether it is consistent with the FMP, the Magnuson-Stevens Act, and other applicable law. If the determination is affirmative, NMFS will publish the proposed rule in the Federal Register for public review and comment.

Consideration of Public Comments

The Councils submitted the For-Hire Reporting Amendment for Secretarial review, approval, and implementation. NMFS' decision to approve, partially approve, or disapprove the For-Hire Reporting Amendment will be based, in part, on consideration of comments, recommendations, and information received during the comment period on this notice of availability.

Comments received by November 18, 2013, whether specifically directed to the amendment or the proposed rule, will be considered by NMFS in its decision to approve, disapprove, or partially approve the amendment. Comments received after that date will not be considered by NMFS in this decision. All comments received by NMFS on the amendment or the proposed rule during their respective comment periods will be addressed in the final rule.

Authority: 16 U.S.C. 1801 et seq.

Dated: September 13, 2013.
Kelly Denit,
Acting Deputy Director, Office of Sustainable Fisheries, National Marine Fisheries Service.

[FR Doc. 2013-22717 Filed 9-17-13; 8:45 am]

BILLING CODE 3510-22-P